DEPARTMENT OF COMMERCE

National Oceanic and Atmospheric Administration

RIN 0648-XC969

Draft Guidance for Assessing the Effects of Anthropogenic Sound on Marine Mammals—Acoustic Threshold Levels for Onset of Permanent and Temporary Threshold Shifts

AGENCY: National Marine Fisheries Service (NMFS), National Oceanic and Atmospheric Administration (NOAA), Commerce.

ACTION: Notice; reopening of public comment period.

SUMMARY: On December 27, 2013 the National Marine Fisheries Service (NMFS) on behalf of NMFS and the National Ocean Service (referred to collectively here as the National Oceanic and Atmospheric Administration (NOAA)), announced the availability of draft guidance for assessing the effects of anthropogenic sound on marine mammal species under NOAA's jurisdiction. NOAA solicited public comment on the draft guidance and provided a 30-day public comment period ending January 27, 2014. NOAA has received requests for an extension of the public comment period. In response to those requests, NOAA is reopening the public comment period for an additional 45 days.

DATES: Comments must be received or postmarked by no later than March 13, 2014.

ADDRESSES: The draft guidance is available in electronic form via the Internet at http://www.nmfs.noaa.gov/pr/acoustics/ and via the eRulemaking Portal http://www.regulations.gov.

You may submit comments, identified by NOAA-NMFS-2013-0177, by any of the following methods:

• Electronic Submissions: Submit all electronic public comments via the Federal eRulemaking Portal http://www.regulations.gov.

• Mail: Send comments to: Chief, Marine Mammal and Sea Turtle Conservation Division, Office of Protected Resources, National Marine Fisheries Service, 1315 East-West Highway, Silver Spring, MD 20910-3226, Attn: Acoustic Guidance.

Instructions: All comments received are a part of the public record and will generally be posted to http://www.regulations.gov without change. All Personal Identifying Information (for example, name, address, etc.) voluntarily submitted by the commenter may be publicly accessible. Do not submit Confidential Business Information or otherwise sensitive or protected information.

NMFS will accept anonymous comments (enter N/A in the required fields, if you wish to remain anonymous). You may submit attachments to electronic comments in Microsoft Word, Excel, WordPerfect, or Adobe PDF file formats only.

FOR FURTHER INFORMATION CONTACT: Amy Scholik-Schlomer, Office of Protected Resources, 301-427-8449.

SUPPLEMENTARY INFORMATION: On December 27, 2013 NOAA announced the availability of draft guidance for assessing the effects of anthropogenic sound on marine mammal species under NOAA's jurisdiction for public comment (78 FR 78822). The guidance provides updated received levels, or thresholds, above which individual marine mammals are predicted to experience changes in their hearing sensitivity (either temporary or permanent) for all underwater anthropogenic sound sources. NOAA has received requests for an extension of the public comment period. In response to these requests, NOAA is reopening the comment period an additional 45 days. Comments must be received or postmarked by no later than March 13, 2014.

Dated: January 23, 2014.
Alan D. Risenhoover,
Director, Office of Sustainable Fisheries, performing the functions and duties of the Deputy Assistant Administrator for Regulatory Programs, National Marine Fisheries Service.

[FR Doc. 2014-01611 Filed 1-28-14; 8:45 am]

BILLING CODE 3510-22-P